DEPARTMENT OF THE INTERIOR

Fish and Wildlife Service

[FWS-R5-R-2015-N090;BAC-4311-K9-S3]

Chincoteague National Wildlife Refuge and Wallops Island National Wildlife Refuge, Accomack County, Virginia; Final Comprehensive Conservation Plan and Environmental Impact Statement

AGENCY: Fish and Wildlife Service, Interior.

ACTION: Notice of availability; final comprehensive conservation plan and environmental impact statement.

SUMMARY: We, the U.S. Fish and Wildlife Service, announce the availability for review of our final comprehensive conservation plan (CCP) and environmental impact statement (EIS) for Chincoteague National Wildlife Refuge (NWR, refuge) and Wallops Island NWR. The CCP/EIS describes how we propose to manage both the staffed 14,032-acre Chincoteague NWR and the unstaffed 373-acre Wallops Island NWR over the next 15 years.

DATES: We will sign a record of decision no sooner than 30 days after the publication of this notice.

ADDRESSES: You may view, obtain, or request CD-ROM copies of the final CCP/EIS by any of the following methods.

Agency Web site: Download a copy of the document at http://www.fws.gov/refuge/Chincoteague/what_we_do/conservation.html.

Email: Send requests to northeastplanning@fws.gov. Include “Chincoteague NWR” in the subject line of your email.

U.S. Mail: Thomas Bonetti, Natural Resource Planner, U.S. Fish and Wildlife Service, 300 Westgate Center Drive, Hadley, MA 01035.

In-Person Viewing or Pickup: Visit during regular business hours at refuge headquarters, 8231 Beach Road, Chincoteague Island, VA 23336.

To view comments on the final CCP-EIS from the Environmental Protection Agency (EPA), or for information on EPA's role in the EIS process, see EPA's Role in the EIS Process under SUPPLEMENTARY INFORMATION.

FOR FURTHER INFORMATION CONTACT: Thomas Bonetti, Natural Resource Planner, 413-253-8307 (phone); northeastplanning@fws.gov (email).

SUPPLEMENTARY INFORMATION:

Introduction

With this notice, we continue the CCP process for Chincoteague NWR and Wallops Island NWR, which we began by publishing a notice of intent in the Federal Register (75 FR 57056) on September 17, 2010. For more about the initial process and the history of the refuges, see that notice. On May 15, 2014, we announced the release of the draft CCP/EIS to the public and requested comments in a notice of availability in the Federal Register (79 FR 27906). We subsequently extended the public comment period in another notice in the Federal Register (79 FR 41300) on July 15, 2014. In addition, EPA published a notice announcing the draft CCP and EIS (79 FR 29759; May 23, 2014), as required under section 309 of the Clean Air Act (CAA) (42 U.S.C. 7401 et seq.). We now announce the final CCP and EIS. Under the CAA, EPA also will announce the final CCP and EIS via the Federal Register.

EPA's Role in the EIS Process

The EPA is charged under section 309 of the Clean Air Act to review all Federal agencies' EISs and to comment on the adequacy and the acceptability of the environmental impacts of proposed actions in the EISs.

EPA also serves as the repository (EIS database) for EISs prepared by Federal agencies and provides notice of their availability in the Federal Register. The EIS Database provides information about EISs prepared by Federal agencies, as well as EPA's comments concerning the EISs. All EISs are filed with EPA, which publishes a notice of availability on Fridays in the Federal Register.

The notice of availability is the start of the 45-day public comment period for draft EISs, and the start of the 30-day “wait period” for final EISs, during which agencies are generally required to wait 30 days before making a decision on a proposed action. For more information, see http://www.epa.gov/compliance/nepa/eisdata.html. You may search for EPA comments on EISs, along with EISs themselves, at https://cdxnodengn.epa.gov/cdx-enepa-public/action/eis/search. We completed a thorough analysis of impacts on the human environment in the final CCP/EIS, and responded to public comments.

The CCP will guide us in managing and administering the refuges for 15 years. Alternative B, as we described in the final CCP/EIS, is our preferred alternative.

Background

The CCP Process

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System. CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

CCP/EIS Alternatives

We evaluated three alternatives for managing Chincoteague NWR and Wallops Island NWR; alternative B is our preferred alternative. Based on feedback on the draft CCP/EIS, some modifications have been made to alternative B and are summarized below. A full description of all alternatives, including changes to our preferred alternative, can be found in the final CCP/EIS at the sources identified in ADDRESSES.

Changes to Alternative B, the Service's Preferred Alternative

• The assigned area, consisting of the 1-mile recreational beach, associated parking, and new Visitor Contact Station, would extend south 1 more mile to the terminus of Swan Cove Trail (2 miles total), thus doubling the length of the assigned area.

• Over sand vehicles (OSV) and hiking access would continue via Beach Road across Toms Cove south to Fishing Point September 16 through March 14.

• A new ½-mile, OSV zone to facilitate the six priority uses (March 15 through September 15) would be developed south of new recreational beach, and added to the new assigned area. We would continue current management of the Overwash and Hook area for shorebirds until the new recreational beach is established, at which time the March 15 through September 15 closure would go into effect.

• We will keep current biking access open via Swan Cove Trail and will not propose an alternative bike route north to the relocated public beach (from Wildlife Loop to Mallard (C Dike)).

• The Service Road would continue to be open year-round to hikers north to the refuge/National Seashore boundary.

• A section of the Affected Environment (Chapter 3) on cultural resources was inadvertently left out of the draft CCP/EIS. This section, which has been coordinated with the Virginia Department of Historic Resources, is included in the final CCP/EIS.

Other Features of Alternative B

Alternative B would continue established habitat and wildlife management strategies but focus them in light of the new goals and vision established by the CCP. The alternative balances habitat management, public use and access, and administration of the refuge. We would continue to preserve approximately 2,650 acres of wetland impoundments, but make adjustments in accordance with a new impoundment management plan that takes into account various factors, such as the habitat needs of black ducks and monarch butterflies, climate change and natural coastal processes, and relocated beach access and parking. The refuge would continue to protect and enhance the wilderness character of the 1974 proposed wilderness area, and there would be no change in its size (1,300 acres) or location.

In recognition of the vulnerability of the current parking, the refuge would develop and implement a site design plan for parking and access to a new beach location, approximately 1.5 miles north of the existing beach. We are committed to working with the National Park Service (NPS) and others to future design, refine, and analyze beach relocation infrastructure in a separate National Environmental Policy Act document.

Over the next 15 years, the refuge would maintain and, where possible, expand current hunting opportunities by including additional species, extending hours, and providing special events. The refuge would add mourning doves, light geese, and non-migratory Canada goose hunting opportunities to the refuge's migratory bird hunting program. Additionally, the refuge would allow migratory bird hunting on Federal holidays within the Commonwealth of Virginia hunting seasons. The refuge would also add turkeys to the big game hunting program and pursue development of a trapping program for furbearers. The refuge would continue sika hunting and would conduct research to identify a desired population size.

The refuge would pursue partnerships to enhance land conservation, environmental education, and interpretation on the Delmarva Peninsula. The “Chincoteague ponies” have a strong cultural tie to the community, and the refuge would implement a Chincoteague pony management plan that meets multiple objectives: visitor viewing, habitat management, and pony health. The refuge would allow grazing of the current pony population, with a maximum pony herd size of 150, per the management agreement with the Chincoteague Volunteer Fire Company.

Public Availability of Documents

You can view or obtain the final CCP/EIS as indicated under ADDRESSES.

Comments

During the public comment period, a total of 236 emails and 94 letters were received, including official comments from the town of Chincoteague, the Chincoteague Chamber of Commerce, The Nature Conservancy, NPS, Environmental Protection Agency, various departments from the Commonwealth of Virginia, and other local interest groups. In addition a petition was submitted supporting Alternative “A plus,” an alternative with elements of both alternative A and B, with approximately 600 individuals signing. Another petition supporting the preferred alternative (alternative B) was submitted with 112 individuals signing. We held two public open house meetings in Chincoteague, and additional meetings in Melfa, Virginia, and Pocomoke City, Maryland. As part of the public involvement process, we held a public hearing on June 26, 2014, in Chincoteague with 28 people formally raising a variety of issues and concerns.

We evaluated all the letters and emails sent to us during that comment period, along with comments recorded at our public hearing, and addressed all substantive comments. A summary of those comments and our responses to them is included in the final CCP/EIS as appendix R.

Next Steps

We will document the final decision in a record of decision, which will be published in the Federal Register after a 30-day “wait period” that begins when EPA announces this final CCP-EIS. For more information, see EPA's Role in the EIS Process.

Dated: August 18, 2015.
Deborah Rocque,
Acting Regional Director, Northeast Region, U.S. Fish and Wildlife Service.

[FR Doc. 2015-21925 Filed 9-10-15; 8:45 am]

BILLING CODE 4310-55-P